NATIONAL CREDIT UNION ADMINISTRATION

Revisions of Agency Information Collection of a Previously Approved Collection; Request for Comments

AGENCY: National Credit Union Administration (NCUA).

ACTION: Notice of submission to the Office of Management and Budget.

SUMMARY: As required by the Paperwork Reduction Act of 1995, the National Credit Union Administration (NCUA) is submitting the following extensions and revisions of currently approved collections to the Office of Management and Budget (OMB) for renewal.

DATES: Written comments should be received on or before January 8, 2024 to be assured consideration.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Copies of the submission may be obtained by contacting Mahala Vixamar at (703) 718-1155, emailing PRAComments@ncua.gov, or viewing the entire information collection request at www.reginfo.gov.

SUPPLEMENTARY INFORMATION:

OMB Number: 3133-0004.

Title: NCUA Call Report.

Type of Review: Revision of a currently approved collection.

Abstract: Sections 106 and 202 of the Federal Credit Union Act require federally insured credit unions (FICUs) to make financial reports to the NCUA. Section 741.6 of the NCUA Rules and Regulations requires all FICUs to submit a Call Report quarterly. Financial information collected through the Call Report is essential to NCUA supervision of Federal credit unions. This information also facilitates NCUA monitoring of other credit unions with share accounts insured by the National Credit Union Share Insurance Fund (NCUSIF).

Affected Public: Private Sector: Not-for-profit institutions.

Estimated Number of Respondents: 4,686.

Estimated Number of Responses per Respondent: 4.

Estimated Total Annual Responses: 18,744.

Estimated Hours per Response: 4.

Estimated Total Annual Burden Hours: 74,976.

Reason for Change: Burden decreased due to the number of respondents decreasing.

OMB Number: 3133-0040.

Title: Federal Credit Union Occupancy, Planning, and Disposal of Acquired and Abandoned Premises—12 CFR 701.36.

Type of Review: Revision of a currently approved collection.

Abstract: Section 107(4) of the Federal Credit Union Act authorizes a Federal credit union (FCU) to purchase, hold, and dispose of property necessary or incidental to its operations. Section 701.36 of NCUA Rules and Regulations interprets and implements this provision of the FCU Act by establishing occupancy, planning, and disposal requirements for acquired and abandoned premises. It also prohibits certain transactions. In addition, this section includes provisions in which an FCU may seek a waiver from certain requirements of the rule. NCUA reviews written waiver requests and makes a determination on the request based on safety and soundness considerations.

Affected Public: Private Sector: Not-for-profit institutions.

Estimated Number of Respondents: 18.

Estimated Number of Responses per Respondent: 1.

Estimated Total Annual Responses: 18.

Estimated Hours per Response: 10.

Estimated Total Annual Burden Hours: 180.

Reason for Change: Burden increased due to the number of respondents increasing.

OMB Number: 3133-0127.

Title: Purchase, Sale, and Pledge of Eligible Obligations—12 CFR 701.23.

Type of Review: Revision of a currently approved collection.

Abstract: Section 701.23 authorizes Federal Credit Unions to sell and pledge loans and purchase eligible obligations from other institutions.

Affected Public: Private Sector: Not-for-profit institutions.

Estimated Number of Respondents: 343.

Estimated Number of Responses per Respondent: 79.154.

Estimated Total Annual Responses: 27,150.

Estimated Hours per Response: 0.40214.

Estimated Total Annual Burden Hours: 10,918.

Reason for Change: Burden decreased due to the number of respondents decreasing.

OMB Number: 3133-0141.

Title: Organization and Operations of Federal Credit Unions—Loan Participation, 12 CFR 701.22.

Type of Review: Revision of a currently approved collection.

Abstract: The NCUA Rules and Regulations, sections 701.22 and 741.225, outline the requirements for a loan participation program. FICUs are required to execute a written loan participation agreement with the lead lender. Additionally, the rule requires all FICUs to maintain a loan participation policy that establishes underwriting standards and maximum concentration limits. Credit unions may apply for waivers on certain key provisions of the rule.

Affected Public: Private Sector: Not-for-profit institutions.

Estimated Number of Respondents: 1,887.

Estimated Number of Responses per Respondent: 2.01695.

Estimated Total Annual Responses: 3,806.

Estimated Hours per Response: 0.7949.

Estimated Total Annual Burden Hours: 3,025.

Reason for Change: Burden decreased due to the number of respondents decreasing.

OMB Number: 3133-0189.

Title: Contractor Budget and Representations and Certifications.

Type of Review: Extension of a previously approved collection.

Abstract: Standardized information from prospective outside counsel is essential to the NCUA in carrying out its responsibility as regulator, conservator, and liquidating agent for federally insured credit unions. The information will enable the NCUA to further standardize the data it uses to select outside counsel, consider additional criteria in making its selections, and improve efficiency and recordkeeping related to its selection process.

Affected Public: Private Sector: Not-for-profit institutions.

Estimated Number of Respondents: 50.

Estimated Number of Responses per Respondent: 1.

Estimated Total Annual Responses: 50.

Estimated Hours per Response: 2.

Estimated Total Annual Burden Hours: 100.

Reason for Change: Burden decreased due to the number of respondents decreasing.

Request For Comments: Comments submitted in response to this notice will be summarized and included in the request for Office of Management and Budget approval. All comments will become a matter of public record. The public is invited to submit comments concerning: (a) whether the collection of information is necessary for the proper performance of the function of the agency, including whether the information will have practical utility; (b) the accuracy of the agency's estimate of the burden of the collection of information, including the validity of the methodology and assumptions used; (c) ways to enhance the quality, utility, and clarity of the information to be collected; and (d) ways to minimize the burden of the collection of the information on the respondents, including the use of automated collection techniques or other forms of information technology.

By the National Credit Union Administration Board.
Melane Conyers-Ausbrooks,
Secretary of the Board.

[FR Doc. 2023-26854 Filed 12-6-23; 8:45 am]

BILLING CODE 7535-01-P